DEPARTMENT OF THE INTERIOR

Bureau of Land Management

[LLNV922000.L2642000.BH0000.LXHMFAB20000.18X MO# 4500144069]

Notice of Proposed CERCLA Settlement Agreement for Recovery of Past Response Costs for the Anaconda Copper Mine Site, Yerington, Lyon County, Nevada

AGENCY: Bureau of Land Management, Interior.

ACTION: Notice of proposed settlement; request for public comment.

SUMMARY: In accordance with the Comprehensive Environmental Response, Compensation and Liability Act of 1980, as amended (CERCLA), notice is hereby given that the United States Department of the Interior (DOI) has entered into a proposed settlement, embodied in a CERCLA Settlement Agreement for Recovery of Past Response Costs for the Anaconda Copper Mine Site, Yerington, Lyon County, Nevada (Settlement Agreement), with Atlantic Richfield Company (ARC). Under the proposed settlement, ARC agrees to pay DOI compromised past costs incurred by DOI at the Anaconda Copper Mine Site.

DATES: Comments must be received on or before August 17, 2020.

ADDRESSES: The Settlement Agreement is available for public inspection at the Bureau of Land Management, Nevada State Office, 1340 Financial Boulevard, Reno, Nevada 89502, phone: (775) 861-6400. Comments should be addressed to Nathalie Doherty, Attorney-Advisor, Office of the Solicitor, U.S. Department of the Interior, 601 SW 2nd Avenue, Suite 1950, Portland, Oregon 97204; Email: nathalie.doherty@sol.doi.gov; and should reference the Anaconda Copper Mine Site. The BLM's response to any comments received will be available for public inspection at the same address.

FOR FURTHER INFORMATION CONTACT: Nathalie Doherty, Attorney-Advisor, Office of the Solicitor, U.S. Department of the Interior, 601 SW 2nd Avenue, Suite 1950, Portland, Oregon 97204; Email: nathalie.doherty@sol.doi.gov; Phone: (503) 872-2784.

SUPPLEMENTARY INFORMATION: Notice of this proposed Settlement Agreement is made in accordance with the Section 122(i) of CERCLA. The Settlement Agreement entered into under Section 122(h) of CERCLA concerns ARC's payment of compromised past costs incurred by DOI in connection with Anaconda Copper Mine Site, located near Yerington, Lyon County, Nevada. Parties to the Settlement Agreement include the DOI and ARC. Under the Settlement Agreement, ARC agrees to pay DOI $700,000 in past response costs. This represents a compromise payment for past costs incurred by DOI. In exchange, DOI covenants not to sue or take administrative action against ARC pursuant to Section 107(a) of CERCLA, for DOI's past response costs as those costs are defined in the Settlement Agreement. BLM will consider all comments received on the proposed Settlement Agreement in accordance with the DATES and ADDRESSES sections of this Notice, and may modify or withhold its consent to the proposed Settlement Agreement if comments received disclose facts or considerations that indicate that the proposed Settlement Agreement is inappropriate, improper, or inadequate.

Jon K. Raby,
State Director, Nevada State Office, Bureau of Land Management.

[FR Doc. 2020-15471 Filed 7-16-20; 8:45 am]

BILLING CODE 4310-HC-P